DEPARTMENT OF STATE

[Public Notice 8058]

Determination by the Secretary of State Relating to Iran Sanctions

AGENCY: Department of State.

This notice is to inform the public that the Secretary of State determined, on September 14, 2012, pursuant to Section 1245(d)(4)(D) of the National Defense Authorization Act for Fiscal Year 2012 (NDAA) (Pub. L. 112-81), as amended by the Iran Threat Reduction and Syria Human Rights Act (Pub. L. 112-158), that as of September 14, 2012, each of the following countries has qualified for the 180-day exception outlined in section 1245(d)(4)(D): Belgium, Czech Republic, France, Germany, Greece, Italy, Japan, Netherlands, Poland, Spain, and the United Kingdom. The Secretary of State made the initial exception determinations under Section 1245(d)(4)(D) of the NDAA regarding these countries on March 20, 2012.

FOR FURTHER INFORMATION CONTACT: Carlos Pascual, Special Envoy and Coordinator, Bureau of Energy Resources, (202) 647-8543.

Dated: October 01, 2012.
Carlos Pascual,
Bureau of Energy Resources, Department of State.

[FR Doc. 2012-24900 Filed 10-9-12; 8:45 am]

BILLING CODE 4710-02-P